DEPARTMENT OF HOMELAND SECURITY

Office of the Secretary

[Docket No. DHS-2016-0076]

Privacy Act of 1974; Department of Homeland Security United States Citizenship and Immigration Services-004 Systematic Alien Verification for Entitlements Program System of Records

AGENCY: Department of Homeland Security, Privacy Office.

ACTION: Notice of Privacy Act System of Records.

SUMMARY: In accordance with the Privacy Act of 1974, the Department of Homeland Security (DHS) proposes to update and reissue a current DHS system of records titled, “DHS/United States Citizenship and Immigration Services (USCIS)-004 Systematic Alien Verification for Entitlements (SAVE) Program” system of records. DHS/USCIS collects, uses, and maintains the SAVE Program records on noncitizen applicants for public benefits, licenses, grants, governmental credentials, or other statutorily authorized purposes.

DHS/USCIS is updating this system of records to: (1) Update the category of individuals to include sponsors listed on the Form I-864 Affidavit of Support Under Section 213A of the Act; (2) expand the categories of records to clarify the data elements that USCIS collects from benefit requestors, spouse, and children; the Dun & Bradstreet Data Universal Numbering System (DUNS) number of the benefit granting agency; and information collected from the benefit-issuing agency about users accessing the system to facilitate immigration status verification; (3) add new routine use (I) to account for disclosure to airport operators as authorized by the FAA Extension, Safety, and Security Act of 2016; (4) expand and add additional record source categories; and (5) explain that this system of records contains records from systems of records that may claim exemptions and DHS will comply with the record source system exemptions when relevant. Additionally, this notice includes non-substantive changes to simplify the formatting and text of the previously published notice.

This updated system will be included in the Department of Homeland Security's inventory of record systems.

DATES: Submit comments on or before December 8, 2016. This updated system will be effective December 8, 2016.

ADDRESSES: You may submit comments, identified by docket number DHS-2016-0076 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Donald K. Hawkins, (202) 272-8000, Privacy Officer, U.S. Citizenship and Immigration Services, 20 Massachusetts Avenue NW., Washington, DC 20529. For privacy questions, please contact: Jonathan R. Cantor, (202) 343-1717, Acting Chief Privacy Officer, Privacy Office, U.S. Department of Homeland Security, Washington, DC 20528.

SUPPLEMENTARY INFORMATION:

I. Background

In accordance with the Privacy Act of 1974, 5 U.S.C. 552a, DHS/USCIS proposes to update and reissue a current DHS system of records titled, “DHS/U.S. Citizenship and Immigration Services (USCIS)-004, Systematic Alien Verification for Entitlement (SAVE) Program System of Records.”

The SAVE Program is a primarily web-based service designed to assist Federal, State, tribal, and local government agencies, benefit-issuing agencies, private entities, institutions, and licensing bureaus authorized by law in determining immigration status for granting benefits, licenses, and other lawful purposes. Benefits may include Social Security benefits, public health care, food stamps, conducting background investigations, armed forces recruitment, REAL ID compliance, or any other statutorily authorized purpose. The SAVE Program does not provide determinations regarding an applicant's eligibility for a specific benefit or license; only the benefit granting agency can make that determination. The SAVE Program does not receive the customer agency's final determination of benefit eligibility.

USCIS is updating this Privacy Act System of Records Notice for the SAVE Program to (1) update the category of individuals covered by this SORN, to include sponsors listed on the Form I-864, Affidavit of Support Under Section 213A of the Act and information collected from the benefit-issuing agency about users accessing the system to facilitate immigration status verification; (2) expand the category of records to include foreign passport expiration number; copies of original immigration documents submitted by the SAVE customer; photos; employment authorization document; grant date; and sponsor name, address, and Social Security number (SSN); the Dun & Bradstreet Data Universal Numbering System (DUNS) number of the benefit granting agency; information collected from the benefit-issuing agency about users accessing the system to facilitate immigration status verification (e.g., agency name, address, point(s) of contact, contact telephone number, fax number, email address, user ID, type of benefit(s) the agency issues (e.g. Unemployment Insurance, Educational Assistance, Driver Licensing, Social Security Enumeration)); (3) add routine use (I) to account for non-governmental agencies authorized by law to access the SAVE Program pursuant to the FAA Extension, Safety, and Security Act of 2016; (4) update the record source categories from U.S. Customs and Border Protection (CBP) Nonimmigrant Information System and Border Crossing Information (NIIS and BCI) to CBP TECS and CBP Automatic Tracking System-Passenger (ATS-P) and add the USCIS Electronic Immigration System (ELIS) and the USCIS Person Centric Query Service (PCQS); (5) update to include exemptions because this system of records receives records from other systems that may be exempted under 5 U.S.C. 552a(j)(2). DHS will claim the same exemptions for those records that are claimed for the original primary systems of records from which they originated. Furthermore, this notice includes non-substantive changes to simplify the formatting and text of the previously published notice.

Consistent with DHS's information sharing mission, information stored in the DHS/USCIS-004 Systematic Alien Verification for Entitlement (SAVE) Program may be shared with other DHS components that have a need to know the information to carry out their national security, law enforcement, immigration, intelligence, or other homeland security functions. In addition, DHS/USCIS may share information with appropriate Federal, State, local, tribal, territorial, foreign, or international government agencies consistent with the routine uses set forth in this system of records notice.

This updated system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/USCIS-004 Systematic Alien Verification for Entitlements (SAVE) System of Records.

In accordance with 5 U.S.C. 552a(r), DHS has provided a report of this system of records to the Office of Management and Budget and to Congress.

System of Records

Department of Homeland Security (DHS)/U.S. Citizenship and Immigration Services (USCIS)-004

System name:

DHS/USCIS-004 Systematic Alien Verification for Entitlements (SAVE) Program

Security classification:

Unclassified, For Official Use Only.

System location:

Records are maintained at USCIS Headquarters in Washington, DC, DHS/USCIS domestic and international field offices, and at the DHS Stennis Data Center (DC1).

Categories of individuals covered by the system:

Categories of individuals covered by this system include both U.S. citizens and non-U.S. citizens covered by provisions of the Immigration and Nationality Act of the United States, including individuals who have been lawfully admitted to the United States, individuals who have been granted or derived U.S. citizenship, and individuals who have applied for other immigration benefits pursuant to 8 U.S.C. 1103 et seq., as well as sponsors listed on the Form I-864, Affidavit of Support Under Section 213A of the Act.

Categories of records in the system:

Information collected from the benefit applicant by the agency issuing the benefit to facilitate immigration status verification may include the following about the benefit applicant:

• Full Name;

• Date of birth;

• Country of birth;

• A-Number;

• SSN (in very limited circumstances using the Form G-845, Document Verification Request);

• Receipt number;

• Admission number (I-94 number);

• Customer Agency Case number;

• Agency DUNS number;

• Visa number;

• DHS Document type;

• DHS Document Expiration date;

• Government-issued identification (e.g., passport):

○ Document type;

○ Country of issuance (COI);

○ Document number;

○ Expiration date; and

○ Benefit requested (e.g., unemployment insurance, educational assistance, driving licensing).

• Copies of original immigration documents; and

• U.S. Immigration and Custom Enforcement (ICE) Student and Exchange Visitor Identification System (SEVIS) ID.

System-generated responses as a result of the SAVE program verification process including:

• Case Verification; and

• SAVE program response.

Information collected from the benefit-issuing agency about users accessing the system to facilitate immigration status verification that may include the following about the agency:

• Agency name;

• Address;

• Names of Point(s) of Contact;

• Contact telephone number;

• Fax number;

• Email address;

• User ID; and

• Type of benefit(s) the agency issues (e.g., Unemployment Insurance, Educational Assistance, Driver Licensing, and Social Security Enumeration).

Individual information that may be used by the SAVE program includes:

• Full Name;

• Date of birth;

• Country of birth;

• A-Number;

• SSN;

• Photograph;

• Government-issued identification (e.g., passport):

○ Document type;

○ Country of issuance (COI);

○ Document number; and

○ Expiration date.

• Visa number;

• Form numbers (e.g., Form I-551, Lawful Permanent Resident Card, Form I-766, Employment Authorization Document);

• Other unique identifying numbers (e.g., Federal Bureau of Investigation Number (FIN), SEVIS Identification Number (SEVIS ID), Admission number (I-94 number);

• Entry/Departure date;

• Port of entry;

• Alien Status Change date;

• Naturalization date;

• Date admitted until, country of citizenship;

• Document Grant date;

• Document Receipt number;

• Codes (e.g., class of admission, file control office, provision of law cited for employment authorization);

• Beneficiary information (e.g., Full Name, A-Number, Date of birth, Country of birth, SSN);

• Petitioner information (e.g., Full Name, A-Number, SSN, Tax number, Naturalization Certificate number);

• Sponsor information (e.g., Full Name, Address, SSN);

• Spouse information (e.g., Full Name, A-Number, Date of birth, Country of birth, Country of citizenship, Class of admission, Date of admission, Receipt number, Phone number, Marriage date and location, Naturalization date and location);

• Children information (e.g., Full Name, A-Number, Date of birth, Country of birth, Class of admission); and

• Employer information (e.g., Full Name, Address, Supervisor's name, Supervisor's Phone number).

Case history information may include:

• Alert(s);

• Case summary comments;

• Case category;

• Date of encounter;

• Encounter information;

• Custody actions and decisions;

• Case actions and decisions;

• Bonds;

• Photograph;

• Asylum applicant receipt date;

• Airline and flight number;

• Country of residence;

• City (e.g., where boarded, where visa was issued);

• Date visa issued;

• Address in United States;

• Nationality;

• Decision memoranda; Investigatory reports and materials compiled for the purpose of enforcing immigration laws;

• Exhibits;

• Transcripts; and

• Other case-related papers concerning aliens, alleged aliens, or lawful permanent residents brought into the administrative adjudication process.

Authority for maintenance of the system:

Authority for having a system for verification of immigration status is found in Immigration Reform and Control Act (IRCA), Public Law 99-603, 100 Stat. 3359 (1986); Personal Responsibility and Work Opportunity Reconciliation Act (PRWORA), Public Law 104-193, 110 Stat. 2105 (1996); Title IV, Subtitle A, of Illegal Immigration Reform and Immigrant Responsibility Act (IIRIRA), Public Law 104-208, 110 Stat. 3009 (1997); the REAL ID Act of 2005, Public Law 109-13, 119 Stat. 231 (2005); Patient Protection and Affordable Care Act, Public Law 111-148, 124 Stat. 119 (Mar. 23, 2010), as amended by the Health Care and Education Reconciliation Act of 2010, Public Law 111-152, 124 Stat. 1029 (Mar. 30, 2010); and the FAA Extension, Safety and Security Act of 2016, Public Law 114-190, 130 Stat. 615 (July 15, 2016).

Purpose(s):

The purpose of this system is to provide a fee-based service that assists federal, state, tribal, or local government agencies, or contractors acting on the agency's behalf, private entities and agencies and licensing bureaus for any legally mandated purpose in accordance with an authorizing statute to confirm immigration and naturalized and derived citizen status information, to the extent that such disclosure is necessary to enable these agencies and entities to make decisions related to (1) determining eligibility for a federal, state, or local public benefit; (2) issuing a license or grant; (3) issuing a government credential; (4) conducting a background investigation; or (5) any other lawful purpose.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the U.S. Department of Justice (DOJ), including Offices of the United States Attorneys, or other federal agency conducting litigation or in proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, local, tribal, territorial, international, or foreign law enforcement agency or other appropriate authority charged with investigating or prosecuting a violation, enforcing, or implementing a law, rule, regulation, or order, when a record, either on its face or in conjunction with other information, indicates a violation or potential violation of law, which includes criminal, civil, or regulatory violations and such disclosure is proper and consistent with the official duties of the person making the disclosure.

H. To approved federal, state, and local government agencies for any legally mandated purpose in accordance with their authorizing statute or law and when an approved Memorandum of Agreement or Computer Matching Agreement (CMA) is in place between DHS and the entity.

I. To airport operators to determine the eligibility of individuals seeking unescorted access to any Security Identification Display Area of an airport, as required by the FAA Extension, Safety, and Security Act of 2016.

J. To the news media and the public, with the approval of the Chief Privacy Officer in consultation with counsel, when there exists a legitimate public interest in the disclosure of the information, when disclosure is necessary to preserve confidence in the integrity of DHS, or when disclosure is necessary to demonstrate the accountability of DHS officers, employees, or individuals covered by the system, except to the extent the Chief Privacy Officer determines that release of the specific information in the context of a particular case would constitute an unwarranted invasion of personal privacy.

Disclosure to consumer reporting agencies:

None.

Policies and practices for storing, retrieving, accessing, retaining, and disposing of records in the system:

Storage:

USCIS stores records in this system electronically or on paper in secure facilities in a locked drawer behind a locked door. The records may be stored on magnetic disc, tape, and digital media.

Retrievability:

USCIS retrieves records by name of applicant or other unique identifier to include (but not limited to): Verification Number, A-Number, I-94 Number, SSN, Passport number and Country of Issuance (COI), Visa number, SEVIS Identification, or by the submitting agency name.

Safeguards:

USCIS safeguards records in this system according to applicable rules and policies, including all applicable DHS automated systems security and access policies. USCIS has imposed strict controls to minimize the risk of compromising the information that is being stored. Access to the computer system containing the records in this system is limited to those individuals who have a need to know the information for the performance of their official duties and who have appropriate clearances or permissions.

Retention and disposal:

The retention and disposal schedule, N1-566-08-7, has been approved by the National Archives and Records Administration. Records collected in the process of enrolling in SAVE and in verifying citizenship or immigration status are stored and retained in SAVE for ten (10) years from the date of the completion of verification, unless the records are part of an ongoing investigation in which case they will be retained until completion of the investigation. This period is based on the statute of limitations for most types of misuse or fraud possible using SAVE (under 18 U.S.C. 3291, the statute of limitations for false statements or misuse regarding passports, citizenship, or naturalization documents).

System Manager and address:

The DHS system manager is the Chief, Verification Division, U.S. Citizenship and Immigration Services, Department of Homeland Security, 131 M Street NE., Suite 200, Mail Stop 200, Washington, DC 20529.

Notification procedure:

Individuals seeking notification of and access to any record contained in this system of records, or seeking to contest its content, may submit a request in writing to the National Records Center, Freedom of Information Act (FOIA)/Privacy Act (PA) Office, P.O. Box 648010, Lee's Summit, MO 64064-8010. Specific FOIA information can be found at http://www.dhs.gov/foia under “Contacts.” If an individual believes more than one component maintains Privacy Act records concerning him or her, the individual may submit the request to the Chief Privacy Officer and Chief Freedom of Information Act Officer, Department of Homeland Security, 245 Murray Drive, SW., Building 410, STOP-0655, Washington, DC 20528. When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief FOIA Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records;

• If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

Records are obtained from several sources to include:

(A) Agencies and entities seeking to determine immigration or naturalized or derived citizenship status;

(B) Individuals seeking public licenses, benefits, or credentials;

(C) Other DHS components assisting with enrollment and system maintenance processes;

(D) Information collected from the federal databases listed below:

• Arrival/Departure Information System (ADIS);

• Central Index System (CIS);

• Computer-Linked Application Information Management System 3 & 4 (CLAIMS 3 & CLAIMS 4);

• Customer Profile Management System (CPMS);

• Customs and Border Protection's (CBP) TECS;

• CBP Automatic Tracking System-Passenger (ATS-P);

• Electronic Immigration System (ELIS);

• Enforcement Integrated Database (EID);

• Enforcement Alien Removal Module (EARM);

• Enterprise Service Bus Person Centric Query Service (ESB PCQS);

• Enterprise Citizenship and Immigration Services Centralized Operational Repository (eCISCOR);

• Enterprise Document Management System (EDMS);

• Marriage Fraud Amendment System (MFAS);

• Microfilm Digitization Application System (MiDAS);

• National File Tracking System (NFTS);

• Refugees, Asylum, and Parole System (RAPS);

• DOJ's Immigration Review Information Exchange System (IRIES);

• Student and Exchange Visitor Identification System (SEVIS);

• Immigration status (e.g., Lawful Permanent Resident) from the Department of Justice Executive Office of Immigration Review (EOIR) System; and

• Department of State the Consular Consolidated Database (DOS-CCD).

(E) Information created by the Systematic Alien Verification for Entitlements (SAVE) program.

Exemptions claimed for the system:

This system may receive records from another system exempted in that source system under 5 U.S.C. 552a(j)(2). DHS will claim the same exemptions for those records that are claimed for the systems of records from which they originated.

Dated: October 27, 2016.
Jonathan R. Cantor,
Acting Chief Privacy Officer, Department of Homeland Security.

[FR Doc. 2016-26499 Filed 11-7-16; 8:45 am]

BILLING CODE 9111-97-P